DEPARTMENT OF HEALTH AND HUMAN SERVICES

Health Resources and Services Administration

Agency Information Collection Activities: Submission to OMB for Review and Approval; Public Comment Request; Nurse Corps Scholarship Program (NCSP), OMB No. 0915-0301—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period.

DATES: Comments on this ICR should be received no later than April 8, 2020.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Nurse Corps Scholarship Program OMB No. 0915-0301—Revision.

Abstract: The NCSP, administered by the Bureau of Health Workforce in HRSA, provides scholarships to nursing students in exchange for a minimum 2-year full-time service commitment (or part-time equivalent) at an eligible health care facility with a critical shortage of nurses (i.e., Critical Shortage Facility (CSF)). The scholarship consists of payment of tuition, fees, other reasonable educational costs, and a monthly support stipend. Program recipients are required to fulfill NCSP service commitments at CSFs located in the 50 States, the District of Columbia, Guam, the Commonwealth of Puerto Rico, the Northern Mariana Islands, the U.S. Virgin Islands, American Samoa, the Federated States of Micronesia, the Republic of the Marshall Islands, and the Republic of Palau.

A 60-day notice was published in the Federal Register on October, 04, 2019, vol. 84, No. 193; pp. 53158-160. No comments were received.

Need and Proposed Use of the Information: The NCSP collects data to determine an applicant's eligibility for the program, monitor a participant's continued enrollment in a school of nursing, monitor the participant's compliance with the NCSP service obligation, and prepare annual reports to Congress. Generally, the following information is collected (1) from the schools of nursing, on a quarterly basis—general applicant and nursing school data such as full name, location, tuition/fees, and enrollment status; (2) from the schools of nursing, on an annual basis—data concerning tuition/fees and overall student enrollment status; and (3) from the participants and their employing CSF, on a biannual basis—data concerning the participant's employment status, work schedule and leave usage. In addition, this notice includes one additional form, Verification of Academic Standing, to be completed by the academic institution to verify that the participant remains in good academic standing under the policies of the institution. The form was not included in the 60 day notice but due to programmatic need, it is now being included in this notice.

The Employment Verification Form has been updated to include two questions about participants who work at multiple sites. The In-Service Verification form has been updated to include questions on telehealth and mental health services provided by NCSP participants. Additionally, the application will include an essay question about participation in other federal pipeline programs.

The revised information collection request includes updates to existing forms for the Nurse Corps SP in order to expand the service options for awarded participants, promote the use of telehealth for delivering care throughout the nation especially in rural areas, and to reduce the application burden on respondents.

Updated Form #1—The Participant Semi-Annual Employment In-Service Verification Form will be updated to include additional information about the participant's service including information about telehealth services. This form is also being requested for providers that work at multiple CSF sites. Telehealth helps expand the reach of providers especially in rural areas where medical service sites are more remote. The information collected will assist Program with determining the impact and utilization of telehealth services in various health care settings which will be used to inform our telehealth policies. Enabling service at multiple CSF sites will also allow greater flexibility for providers who rotate or split time between multiple sites which benefits both the participants and the underserved communities—especially in our Federally Qualified Health Centers (FQHC), which support many of our Nurse Corps Nurse Practitioners.

Updated Form #2—The Nurse Corps SP application will include questions for applicants to provide information regarding telehealth services, multiple CSF sites, and verification of base salary to determine the debt to salary ratio used to rank applicant's for award consideration. The application will also be updated to identify applicants eligible for Nurse Corps SP psychiatric nurse practitioner and women's health funding.

Likely Respondents: NCSP participants, educational institutions, and critical shortage facilities.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number responses per respondent | Total responses | Average burden per response (in hours) | Total burden hours
Eligible Applications/Application Program Guidance | 2,600 | 1 | 2,600 | 2 | 5,200
School Enrollment Verification Form | 500 | 4 | 2,000 | .33 | 660
Confirmation of Interest Form | 250 | 1 | 250 | .2 | 50
Data Collection Worksheet Form | 500 | 1 | 500 | 1 | 500
Graduation Close Out Form | 200 | 1 | 200 | .17 | 34
Initial Employment Verification Form | 500 | 1 | 500 | .42 | 210
In Service Verification Form | 1,000 | 2 | 2,000 | .12 | 240
Verification of Academic Standing | 500 | 1 | 500 | .33 | 165
CSF Verification Form | 200 | 1 | 200 | .2 | 40
Authorization to Release Information | 200 | 1 | 200 | .2 | 40
Total | 6,450 |  | 8,950 |  | 7,139

Maria G. Button,
Director, Executive Secretariat.

[FR Doc. 2020-04679 Filed 3-6-20; 8:45 am]

BILLING CODE 4165-15-P